FEDERAL COMMUNICATIONS COMMISSION

Notice of Public Information Collection(s) Being Submitted to OMB for Review and Approval

April 22, 2003.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 2, 2003. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to Leslie.Smith@fcc.gov.

FOR FURTHER INFORMATION CONTACT: For additional information or copies of the information collections contact Les Smith at (202) 418-0217 or via the Internet at Leslie.Smith@fcc.gov.

SUPPLEMENTARY INFORMATION: OMB Control Number: 3060-0161.

Title: Section 73.61, AM Directional Antenna Field Strength Measurements.

Form Number: N/A.

Type of Review: Extension of a currently approved collection.

Respondents: Business and other for-profit entities.

Number of Respondents: 1,890.

Estimated Time per Response: 4 hours.

Frequency of Response: Recordkeeping.

Total Annual Burden: 36,020 hours.

Total Annual Costs: None.

Needs and Uses: 47 CFR 73.61 requires each AM station using directional antennas to make field strength measurement as often as necessary to ensure proper directional antenna system operation. Stations not having approved sampling systems make field strength measurements every three months. Stations with approved sampling systems must take field strength measurements as often as necessary. Also, all AM station using directional signals must take partial proofs of performance as often as necessary. The FCC staff used the data in field inspections/investigations. AM licensees with directional antennas use the data to ensure that adequate interference protection is maintained between stations and to ensure proper operation of antennas.

OMB Control Number: 3060-0506.

Title: Application for FM Broadcast Station License, Form 302-FM.

Form Number: FCC 302-FM.

Type of Review: Extension of a currently approved collection.

Respondents: Business or other for-profit entities; not-for-profit institutions.

Number of Respondents: 925.

Estimated Time per Response: 1-2 hours.

Frequency of Response: On occasion reporting requirements.

Total Annual Burden: 3,135 hours.

Total Annual Costs: $620,000.

Needs and Uses: On October 2, 1998, the FCC adopted a Report and Order (R&O) in MM Docket Nos. 98-43 and 94-149. Among other things, the R&O substantially revised the FCC Form 302-FM to facilitate electronic filing by using certifications and an engineering technical box; simplifying questions; and providing instructions for processing standards and rule interpretations. These changes reduced the applicant's filing burdens when preparing and submitting supporting exhibits and streamlined the Commission's application processing. The Commission has also begun to audit pre- and post-application grants at random to preserve the application process' integrity. The FCC uses the data to confirm that each station has been built as specified in the construction permit; to update FCC station files; and for inclusion in future station operating licenses.

OMB Control Number: 3060-0627.

Title: Application for AM Broadcast Station License, FCC Form 302-AM.

Form Number: FCC 302-AM.

Type of Review: Extension of currently approved collection.

Respondents: Business or other for-profit entities; Not-for-profit institutions.

Number of Respondents: 380.

Estimated Time per Response: 4-20 hours.

Frequency of Response: On occasion reporting requirements.

Total Annual Burden: 2,800 hours.

Total Annual Costs: $10,074.

Needs and Uses: On October 22, 1998, the Commission adopted a Report and Order (R&O) in MM Docket Nos. 98-43 and 94-149. Among other things, this R&O revised the FCC Form 302-AM to facilitate electronic filing by using of certifications and an engineering technical box; revising questions; and adding detailed instructions for processing standards and rule interpretations. These changes reduced the applicant's filing burden when preparing and submitting supporting exhibits and allowed the Commission to streamline its application processing. The Commission has also begun to audit pre- and post-application grants at random to preserve the integrity of the application process. The FCC uses these data to confirm that each station has been built as specified in the construction permit; to update FCC station files; and for inclusion in future station operating licenses.

OMB Control Number: 3060-0930.

Title: Implementation of the Satellite Home Viewer Improvement Act of 1999. Enforcement Procedures for Retransmission Consent Violations Conforming to Section 325(e) of the Communications Act of 1934, as amended.

Form Number: N/A.

Type of Review: Extension of a currently approved collection.

Respondents: Business and other for-profit entities.

Number of Respondents: 8.

Estimated Time per Response: 2 hours (multiple responses/year).

Frequency of Response: On occasion reporting requirements.

Total Annual Burden: 192 hours.

Total Annual Costs: None.

Needs and Uses: Congress directed the Commission to adopt regulations related to retransmission consent pursuant to the changes outlined in the Satellite Home Viewer Improvement Act of 1999. Retransmission consent is the process whereby television broadcasters negotiate and consent to carriage of their signals by MVPDs. Television broadcasters will be required to make an election and make status information available for public review. The availability of such information will serve the purpose of informing the public of the method of broadcast signal carriage.

OMB Control Number: 3060-0573.

Title: Application for Franchise Authority Consent to Assignment or Transfer of Control of Cable Television Franchise, FCC Form 394.

Form Number: FCC Form 394.

Type of Review: Extension of currently approved collection.

Respondents: Business or other for-profit entities; State, Local or Tribal Government.

Number of Respondents: 2,000.

Estimated Time per Response: 1-5 hours.

Frequency of Response: Third party disclosure.

Total Annual Burden: 7,000 hours.

Total Annual Costs: $375,000.

Needs and Uses: Cable operators use FCC Form 394 to apply to the local franchise authority (LFA) for approval to assign or transfer control of a cable television system. With the information provided by Form 394, LFAs can restrict profiteering transactions and other transfers that are likely to have an adverse effect on cable rates or service in the franchise area.

Federal Communications Commission.
Marlene H. Dortch,
Secretary.

[FR Doc. 03-10853 Filed 5-1-03; 8:45 am]

BILLING CODE 6712-01-P